Proclamation 10579 of May 12, 2023

Peace Officers Memorial Day and Police Week, 2023

By the President of the United States of America

A Proclamation

Every day when law enforcement officers pin on their badges, they make an extraordinary commitment to the American people: to rush toward danger regardless of the risk and to faithfully stand up for the rule of law. Across our neighborhoods, towns, and cities, they put themselves in harm's way, hoping to return home safely to their families. On Peace Officers Memorial Day and during Police Week, we celebrate the remarkable courage of our law enforcement community and honor the fallen heroes who made the ultimate sacrifice to protect their fellow Americans.

As a Nation, we expect a lot from our law enforcement officers. They save lives by keeping our roads, subways, and highways safe and responding to domestic violence incidents and natural disasters. We ask them to ensure public safety, build trust within our neighborhoods, and protect the well-being of our communities. Too often, they are also called upon to respond to mass shootings, drug overdoses, mental health crises, and more. Being a law enforcement officer is not just what they do; it is who they are.

The same is true for their families, who sacrifice alongside these heroic Americans. It takes a special person to marry or be the child of a law enforcement officer—knowing the uncertainty as their loved one walks out the door and dreading the possibility of receiving that phone call.

No memorial can ever fill the void left in the hearts of those who have lost a loved one in the line of duty. But their sacrifices in full service to their communities and to our Nation will never be forgotten. We will continue to honor their memories with actions that help keep our law enforcement officers and communities safe from harm.

When I took office at the height of the pandemic, State, local, Tribal, and territorial law enforcement budgets were shrinking. Some agencies were facing their lowest staffing levels in decades, undermining their ability to perform their jobs. That is why we provided crucial funding to help police departments build new training facilities, recruit new personnel, and give officers a raise. I also expanded benefits for first responders who were disabled in the line of duty and their families. And I signed laws improving officer wellness by expanding critical mental health resources to address the physical and emotional trauma that so many members of our law enforcement community experience.

Meanwhile, I have taken steps to keep law enforcement officers safer on the job by signing the most sweeping gun safety law in nearly three decades. It helps keep more guns out of the hands of dangerous people, including by broadening restrictions on domestic abusers, which is critical because domestic violence calls can often turn deadly for police. This law also supports crisis interventions, including extreme risk protection orders, and provides a billion dollars to address the mental health crisis in America. We are also strengthening background checks for 18 to 20-year-olds trying to purchase guns, helping prosecutors crack down on illegal gun sales, and reining in ghost guns that police across the country are increasingly finding at crime scenes.

As I have often said, when it comes to keeping our communities safe, the answer is not to defund the police. It is to fund them with the resources and training they need to protect and serve our communities and to build trust with the American public. My Safer America Plan calls on the Congress to invest in recruiting, hiring, and training more than 100,000 additional officers for effective, accountable community policing, consistent with the standards of my policing Executive Order. My plan also invests in programs that send social workers and other professionals to respond to calls that should not be the responsibility of law enforcement. And it invests $5 billion in proven crime-prevention strategies like community violence interruption. We must not accept the false choice between public safety and public trust; they are two sides of the same coin.

At the National Law Enforcement Memorial in Washington, D.C., there is a quote engraved on the wall that reads, “It is not how these officers died that made them heroes, it is how they lived.” Today, during this week, and year-round, we express our gratitude for the courageous women and men of our Nation's law enforcement community. We honor the memory of the members who made the ultimate sacrifice and pray for their families. And we recommit ourselves to the sacred task of creating a safer and more just Nation for all Americans.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, JOSEPH R. BIDEN JR., President of the United States of America, do hereby proclaim May 15, 2023, as Peace Officers Memorial Day and May 14 through May 20, 2023, as Police Week. I call upon all Americans to observe these events with appropriate ceremonies and activities and salute our Nation's brave law enforcement officers and remember their peace officer brothers and sisters who have given their last full measure of devotion in the line of duty. I also call on the Governors of the United States and its Territories, and appropriate officials of all units of government, to direct that the flag be flown at half-staff on Peace Officers Memorial Day. I further encourage all Americans to display the flag at half-staff from their homes and businesses on that day.

IN WITNESS WHEREOF, I have hereunto set my hand this twelfth day of May, in the year of our Lord two thousand twenty-three, and of the Independence of the United States of America the two hundred and forty-seventh.

[FR Doc. 2023-10664

Filed 5-16-23; 8:45 am]

Billing code 3395-F3-P